DEPARTMENT OF HEALTH AND HUMAN SERVICES

National Institutes of Health

Center for Scientific Review; Amended Notice of Meeting

Notice is hereby given of a change in the meeting of the Enabling Bioanalytical and Biophysical Technologies Study Section, February 17, 2005, 8 a.m. to February 18, 2005, 6 p.m., The Fairmont Washington, DC, 2401 M Street NW., Washington, DC 20037 which was published in the Federal Register on January 25, 2005, 70 FR 3539-3541.

The starting time of the meeting has been changed to 8:30 a.m. on February 17, 2005. The meeting dates and location remain the same. The meeting is closed to the public.

Dated: February 8, 2005.
Laverne Stringfield,
Director, Office of Federal Advisory Committee Policy.

[FR Doc. 05-2959 Filed 2-15-05; 8:45 am]

BILLING CODE 4140-01-M